DEPARTMENT OF TRANSPORTATION

Federal Aviation Administration

14 CFR Part 39

[Docket No. 2002-NM-33-AD; Amendment 39-12815; AD 2002-14-15]

RIN 2120-AA64

Airworthiness Directives; McDonnell Douglas Model MD-11 and -11F Airplanes

AGENCY: Federal Aviation Administration, DOT.

ACTION: Final rule; request for comments.

SUMMARY: This amendment supersedes an existing airworthiness directive (AD), applicable to certain McDonnell Douglas Model MD-11 series airplanes, that currently requires an inspection of the powered drive unit power wires within three feet of each affected powered drive unit termination for mechanical damage; and repair, if necessary. That AD also currently requires revising the wire harnesses; splicing any additional length wire; routing and installing parts; and replacing the floor panels with new and retained floor panels. This amendment revises the existing requirements by improving the routing of the wire harnesses. This amendment is prompted by the FAA's determination that the currently required modification does not adequately preclude the identified unsafe condition. The actions specified in this AD are intended to ensure that the powered roller pans are positioned properly. Improperly positioned powered roller pans could pierce a powered roller wire harness and cause sparking that could ignite adjacent insulation material, which could result in smoke and fire in the center cargo compartment of the airplane.

DATES: Effective August 5, 2002.

The incorporation by reference of certain publications listed in the regulations is approved by the Director of the Federal Register as of August 5, 2002.

Comments for inclusion in the Rules Docket must be received on or before September 17, 2002.

ADDRESSES: Submit comments in triplicate to the Federal Aviation Administration (FAA), Transport Airplane Directorate, ANM-114, Attention: Rules Docket No. 2002-NM-33-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-33-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: On July 14, 2000, the FAA issued AD 2000-14-18, amendment 39-11829 (65 FR 46199, July 27, 2000), applicable to certain McDonnell Douglas Model MD-11 series airplanes, to require an inspection of the powered drive unit power wires within three feet of each affected powered drive unit (PDU) termination for mechanical damage; and repair, if necessary. That AD also requires revising the wire harnesses; splicing any additional length wire; routing and installing parts; and replacing the floor panels with new and retained floor panels. That action was prompted by an incident in which a fire occurred in the center cargo compartment during loading. The actions required by that AD are intended to ensure that the powered roller pans are positioned properly. Improperly positioned powered roller pans could pierce a powered roller wire harness and cause sparking that could ignite adjacent insulation material, which could result in smoke and fire in the center cargo compartment of the airplane.

Actions Since Issuance of Previous Rule

Since the issuance of AD 2000-14-18, the FAA, in conjunction with Boeing, has determined that McDonnell Douglas Service Bulletin MD11-25A227, dated January 27, 2000 (which is referenced in AD 2000-14-18 as the appropriate source of service information) does not adequately specify procedures for routing the wire harness for the position 6L PDU through the sump bulkhead at station 1761.00. Therefore, the requirements of that AD do not adequately preclude the identified unsafe condition.

Explanation of New Service Information

We have reviewed and approved Revision 01 of McDonnell Douglas Alert Service Bulletin MD11-25A227, dated October 31, 2001, which provides new instructions for routing the wire harness for the position 6L PDU through the sump bulkhead at station 1761.00. Accomplishment of the actions specified in the service bulletin is intended to adequately address the identified unsafe condition.

Explanation of AD Applicability

We have specified model designations in the applicability of this proposed AD as published in the most recent type certificate data sheet for the affected models. These model designations differ in the referenced service bulletin.

Explanation of Requirements of Rule

Since an unsafe condition has been identified that is likely to exist or develop on other airplanes of this same type design, this AD supersedes AD 2000-14-18 to require accomplishment of the actions specified in the service bulletin described previously.

Cost Impact

None of the Model MD-11 and -11F airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require between 2 and 3 work hours (depending on the configuration of the airplane) to accomplish the required actions, at an average labor rate of $60 per work hour. Parts would be supplied by the manufacturer at no cost to the operators. Based on these figures, the cost impact of this AD would be between $120 and $180 per airplane. However, the FAA has been advised that manufacturer warranty remedies are available for labor costs associated with accomplishing the actions required by this AD. Therefore, the future economic cost impact of this rule on U.S. operators may be less than the cost impact figure indicated above.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-33-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11829 (65 FR 46199, July 27, 2000), and by adding a new airworthiness directive (AD), amendment 39-12815, to read as follows:

2002-14-15 McDonnell Douglas: Amendment 39-12815. Docket 2002-NM-33-AD. Supersedes AD 2000-14-18, Amendment 39-11829.

Applicability: Model MD-11 and -11F airplanes, as listed in McDonnell Douglas Alert Service Bulletin MD11-25A227, Revision 01, dated October 31, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To ensure that the powered roller pans are positioned properly, accomplish the following:

(a) Within 18 months after the effective date of this AD, accomplish the actions specified in paragraphs (a)(1), (a)(2), and (a)(3) of this AD per McDonnell Douglas Alert Service Bulletin MD11-25A227, Revision 01, dated October 31, 2001.

Inspection

(1) Perform a general visual inspection of the powered drive unit power wires within three feet of each affected powered drive unit termination for mechanical damage. If any damaged wire is detected, before further flight, repair the damaged wire.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Revise Wire Harnesses, Splice Wire, and Route and Install Parts

(2) Revise the wire harnesses, splice any additional length wire, and route and install parts.

Replacement

(3) Replace the floor panels with new and retained floor panels.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin MD11-25A227, Revision 01, dated October 31, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on August 5, 2002.

Issued in Renton, Washington, on July 2, 2002.
Jeffrey E. Duven,
Acting Manager, Transport Airplane Directorate, Aircraft Certification Service.

[FR Doc. 02-17525 Filed 7-18-02; 8:45 am]

BILLING CODE 4910-13-P